DEPARTMENT OF COMMERCE

International Trade Administration

Separate Rates and Combination Rates in Antidumping Investigtions Involving Non-Market Economy Countries

Correction

In notice document E5-1541 beginning on page 17233 in the issue of Tuesday, April 5, 2005, make the following correction:

On page 17233, in the third column, under the heading EFFECTIVE DATE:, “March 5, 2005” should read “April 5, 2005”.

[FR Doc. Z5-1541 Filed 4-13-05; 8:45 am]

BILLING CODE 1505-01-D